DEPARTMENT OF JUSTICE

Office of Justice Programs

Agency Information Collection Activities: Proposed Collection; Comment Request; Fiscal Year 1999 State Domestic Preparedness Equipment Program Needs Assessment

The Department of Justice, Office of Justice Programs (OJP), Office for State and Local Domestic Preparedness Support (OSLDPS), has submitted the following information collection request for review and clearance in accordance with the Paperwork Reduction Act of 1995. Office of Management and Budget approval is being sought for the information collection listed below. This proposed information collection was previously published in the Federal Register on June 8, 2000, Volume 65, page 36467, allowing for a 60-day public comment period.

The purpose of this notice is to allow an additional 30 days for public comment until February 5, 2001. This process is conducted in accordance with 5 CFR 1320.10.

Written comments and/or suggestions regarding the items(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Office of Justice Programs, Office for State and Local Domestic Preparedness Support (OSLDPS), Attention: Frank Lepage, Chief, Grants Management Operations Branch, 810 7th Street, NW., Washington, DC 20531. Additionally, comments may be submitted to OSLDPS via facsimile at (202) 616-2922.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of Information Collection: New collection.

(2) The Title of the Form/Collection: Fiscal Year 1999 State Domestic Preparedness Equipment Program Needs Assessment.

(3) The Agency Form Number, if any, and the Applicable Component of the Department Sponsoring the Collection: U.S. Department of Justice, Office of Justice Programs, Office for State and Local Domestic Preparedness Support.

(4) Affecting Public who will be Asked or Required to Respond, as well as a Brief Abstract:

Primary: Federal Government, State, and Local

Abstract: Section 1404 of the Defense Against Weapons of Mass Destruction Act of 1998 (Title XIV of Public Law 105-261; 50 U.S.C. 2301) as amended by section 1064 of the National Defense Authorization Act of 2000 (Title X of Public Law 106-65; 50 U.S.C. 2301) authorizes the Department of Justice to collect information from state and local jurisdictions to assess the threat and risk of terrorist employment of weapons of mass destruction against cities and other local areas. This data collection is a one-time event that will allow states to: (1) Report current jurisdictional needs for equipment, training, exercises, and technical assistance; (2) forecast projected needs for this support; and (3) identify the gaps that exist at the jurisdictional level in equipment, training, exercises, and technical assistance that OJP/OSLDPS funding will be used to address. Additionally, the information collected will guide OJP/OSLDPS in the formulation of domestic preparedness policies and with the development of OSLDPS programs to enhance state and local first responder capabilities.

(5) An estimate of the total number of respondents and the amount of time estimated for an average respondent to respond/reply: The data collection being proposed is a one-time effort incorporating three main components: A terrorist threat and risk assessment, a public health capabilities assessment, and an equipment needs and capabilities assessment. Information will be collected by approximately 9,000 local law enforcement, public health, and emergency management agencies. In addition, a state administrative agency in each state will roll-up the local data and submit this information to OJP/OSLDPS. Collection and tabulation of the raw data at the local level may take up to one month. Jurisdictions using the OJP data collection tool designed for this exercise may experience burdens ranging from 4-8 hours to collect, tabulate and input data. In addition, roll-up of the data at the state level and electronic submission to OJP may take up to 4 hours.

(6) An Estimate of the Total Public Burden (in hours) Associated With the Collection: The total public burden associated with this one-time data collection will be approximately 66,200 hours.

If additional information is required, contact: Ms. Brenda E. Dyer, Deputy Clearance Officer, United States Department of Justice, Information Management and Security Staff, Justice Management Division, Suite 1220, National Place Building, 1331 Pennsylvania Avenue, NW., Washington, DC 20530.

Dated: December 27, 2000.
Brenda E. Dyer,
Department Deputy Clearance Officer, Department of Justice.

[FR Doc. 01-232 Filed 1-3-01; 8:45 am]

BILLING CODE 4410-18-M